DEPARTMENT OF HEALTH AND HUMAN SERVICES

Centers for Disease Control and Prevention

[30Day-16-16GK]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

Ingress/Egress and Work Boot Outsole Wear Investigation at Surface Mines—New—National Institute for Occupational Safety and Health (NIOSH), Centers for Disease Control and Prevention (CDC).

Background and Brief Description

The mission of the National Institute for Occupational Safety and Health (NIOSH) is to promote safety & health at work for all people through research and prevention. NIOSH, under PL 91-173 as amended by PL 95-164 (Federal Mine Safety and Health Act of 1977) has the responsibility to conduct research to improve working conditions and to prevent accidents and occupational diseases in the U.S. mining sector. The goal of the proposed project is to investigate how ingress/egress systems on mobile equipment, and personal protective footwear (boots) used by miners may lead to slips, trips and falls at stone, sand and gravel surface mining facilities. NIOSH is requesting a three-year approval for this data collection.

The project objective will be achieved through two studies. The first study aims to: Identify elements of ingress/egress systems on haulage trucks and front end loaders that pose a risk of slips, trips and falls (STFs) and could lead to STF related injuries; to determine worker behavior associated with STF incidents; and to learn how purchasing/maintenance decisions are made for ingress/egress systems. In the surface mining industry, it is still unclear which component of the ingress/egress system poses the greatest risk for STF. Hence there is a need to understand where, how and why STF incidents occur during ingress/egress on mobile equipment.

NIOSH will conduct semi-structured interviews and focus groups with mobile equipment operators, and interviews with mine management to explore the issues identified above. Focus groups will be conducted in a private setting with 4-6 participants using a predefined list of questions to help guide the discussion. Semi-structured interviews will be conducted either in person or over the telephone. Two separate interview guides will be used for mobile equipment operators and mine management to guide the discussion.

For the focus groups and semi-structured interviews, NIOSH will collect basic demographic information including years of mining experience, years of experience with haul trucks/front end loaders, and models of haul trucks/front end loaders operated most often in the past year. The semi-structured interviews and focus groups will be audio recorded for further analysis of the discussion. The semi-structured interviews will last no longer than 60 minutes and the focus groups will last no longer than 90 minutes.

The second study aims to identify changes in tread (wear) on the work boot outsoles and other outsole characteristics that will be used in further analysis to develop guidelines for work boot replacement based on measureable features of boot outsoles. This information will also be used in further analysis to determine desirable and undesirable features of work boots based on mine characteristics or job activities. Most mining companies replace footwear at a pre-determined interval or based on appearance and comfort (Chiou, Bhattacharya, & Succop, 1996) with little knowledge of the actual condition of the boot outsole and its influence on the likelihood of a STF incident. Although there have been attempts to quantify shoe outsole wear in industrial work when the shoe was ready for disposal (Chiou et al., 1996), there is a lack of knowledge in the mining industry on how quickly the outsoles of work boots wear, what sorts of wear occur, and how wear patterns influence the likelihood of a STF.

For the longitudinal study, NIOSH will provide participants with a pair of new work boots of their choice, in accordance with mine requirements and policies. Afterwards, participants will complete a preliminary survey and provide basic demographic information, details of their current work boots, and details of STF incidents in the past 3 months. Participants will be requested to wear the supplied boots at work and treat the boots as they would any pair of boots they would wear at work.

NIOSH researchers will scan the boot outsoles longitudinally, at 2- to 3-month intervals for the length of the study. To better understand wear patterns and risks, participants will complete an on-going survey that records hours worked, locations commonly visited, and tasks performed along with details of any near miss or STF event. These self-reports will be collected via survey on a bi-weekly basis. Participants will be offered multiple modalities to respond to the survey (in-person, on paper, over the telephone, via email or using an online survey) to increase response rates. When a participant feels their boots need to be replaced (or when the end of the two-year tracking period has been reached), they will complete a final survey assessing why the boots were at the end of their life and will return their boots to NIOSH researchers for further analysis.

For the cross-sectional study, participants' current work boots will be scanned and participants will complete the preliminary survey that includes basic demographic information, details of current work boots, and details of STF events in the past three months.

The results of these research studies will have very different applications, but one goal: Reducing the risks of STF accidents at surface mining facilities. The results of the ingress/egress study will help identify features of the ingress/egress system that may lead to STF accidents so that they can be made safer by the manufacturers and to allow mining companies to make better purchasing decisions and encourage the acquisition of systems with better slip and fall protection. The results of the boot outsole wear study will be used to inform mine policy and practices by providing miners and mine managers with the knowledge to determine when to replace footwear based on measurable features of the boot outsoles.

The total estimated burden hours are 643. There is no cost to the respondents other than their time.

Estimated Annualized Burden Hours
Type of respondents | Form name | Number of respondents | Number of responses per respondent | Average burden per response (in hours)
Mobile equipment Operators | Mobile equipment operators focus group guide | 25 | 1 | 1.25
Mobile equipment operators | Mobile equipment operator interview guide | 10 | 1 | 45/60
Mine Management | Mine Management Interview Guide | 15 | 1 | 45/60
Mine Worker | Screening Questionnaire | 50 | 1 | 6/60
Mine Worker | Informed consent form (Longitudinal boot outsole study) | 50 | 1 | 12/60
Mine Worker | Preliminary survey | 150 | 1 | 15/60
Mine Worker | Recurring survey | 50 | 52 | 12/60
Mine Worker | Final Survey | 50 | 1 | 6/60
Mine Worker | Talent and consent waiver | 150 | 1 | 6/60

Leroy A. Richardson,
Chief, Information Collection Review Office, Office of Scientific Integrity, Office of the Associate Director for Science, Office of the Director, Centers for Disease Control and Prevention.

[FR Doc. 2016-12148 Filed 5-23-16; 8:45 am]

BILLING CODE 4163-18-P